DEPARTMENT OF TRANSPORTATION

Federal Highway Administration

Environmental Impact Statement: I-15 Corridor, Utah and Salt Lake Counties, UT

AGENCY: Federal Highway Administration (FHWA), DOT.

ACTION: Notice of intent to prepare an Environmental Impact Statement (EIS).

SUMMARY: The Federal Highway Administration (FHWA) and the Utah Department of Transportation (UDOT) are issuing this notice to advise the public that an Environmental Impact Statement (EIS) will be prepared for a proposed transportation improvement project in Utah and Salt Lake Counties, Utah. To date, five alternatives have been identified in previous studies, to be addressed in the EIS. These alternatives include a no-action alternative, transportation systems management alternative, highway only alternative, transit only alternative, and a combined transit and highway or multimodal alternative. In addition, alternatives that are identified from the scoping process will be evaluated in the EIS. Scoping will be accomplished through correspondence and discussions with interested persons; organizations; federal, state and local agencies; and through public and agency meetings.

DATES: Comment Due Date: Written comments on the scope of alternatives and impacts to be considered in the EIS must be received no later than October 11, 2004, and must be sent to UDOT at the address indicated below. Scoping Meetings: UDOT will conduct three public scoping meetings and one agency meeting. The agency meeting will be held on September 8, 2004 from 10 a.m. to 12 p.m. at the UDOT Complex, located at 4501 South 2700 West in Salt Lake City. The public scoping meetings will be held on September 8, 2004 from 5 p.m. to 8 p.m. at the Murray High School Spartan Conference Room, located at 5440 S. State Street in Murray; on September 9, 2004 from 5 p.m. to 8 p.m. at Larsen Elementary School located at 1175 E. Flonette Drive in Spanish Fork; and on September 11, 2004 from 2 p.m. to 5 p.m. at the McKay Events Center, North Presidential Level, Utah Valley State College located on 800 W. University Parkway in Orem.

FOR FURTHER INFORMATION CONTACT: Jeffrey Berna, Environmental Specialist, Federal Highway Administration, 2520 West 4700 South, Suite 9A, Salt Lake City, UT 84118. Telephone: (801) 963-0182. Written comments should be sent to Mr. Merrell Jolley, Project Manager, Utah Department of Transportation, 658 North 1500 West Orem, UT 84057. Telephone: (801) 222-3406. To be added to the mailing list, contact Eileen Barron, Public Involvement Manager, Parsons Brinckerhoff, 488 East Winchester Street, Suite 400, Murray, Utah 84107. Telephone (888) 898-2111 or e-mail i15utahcounty@utah.gov. Persons with special needs should contact Eileen Barron at the above address and phone number.

SUPPLEMENTARY INFORMATION:

1. Description of Study Area and Scope

The Federal Highway Administration (FHWA), in cooperation with the Federal Transit Administration (FTA), the Utah Department of Transportation (UDOT) and Utah Transit Authority (UTA) is preparing an Environmental Impact Statement (EIS) for a proposed action approximately 66 miles in length to address capacity, operational, infrastructure deficiencies along 1-15 from Santaquin to the 10600 South Interchange (southern point of previous I-15 reconstruction). The proposed action will also examine transit alternatives that address the purpose and need for the corridor including, but not limited to, commuter rail from Payson to the Salt Lake City Intermodal Center, light rail from 1000 South in Sandy to Orem, and bus rapid transit.

II. Purpose and Need

Growth within Utah County over the last ten years has been significant. Population in Utah and Salt Lake counties is expected to grow 84 and 63 percent respectively by the year 2030, at an annual growth rate of approximately 2.0 percent. I-15 is the only continuous north-south route in Utah County, and the primary north-south facility in the State. Sections of I-15 are currently demonstrating unacceptable levels of service in the peak hours resulting in significant driver delay and frustration.

Two recent planning studies have identified possible transit and highway transportation solutions for the Utah County and southern Salt Lake County. These two studies are the Inter-Regional Corridor Alternatives Analysis (January 2002) and the Utah County I-15 Corridor Management Plan (August 2002). This EIS will build upon these previous studies and will also analyze the environmental impacts for various alternatives.

III. Alternatives

The proposed project intends to consider no-build, transportation system management, highway only, transit only, and multimodal build alternatives to address the transportation need. Build alternatives for I-15 will consider widening the facility, improvements to or new interchanges, and correction of existing deficiencies.

Alternatives 1: No-Action. This alternative consists of highway and transit systems existing as of year 2004, plus improvements programmed in the approved long range transportation plan.

Alternative 2: Transportation Systems Management. This alternative consists of low cost, reasonable and cost-effective highway and transit system improvements within the I-15 Corridor that address the purpose and need.

Alternative 3: Highway-Only Improvements: Based on previous studies, this alternative consists of reconstructing existing interchanges; constructing 3-5 new interchanges; possibly including collector-distributor lanes from University Parkway to 920 South Provo; and widening I-15 from 6 to 8 general purpose lanes from the Salt Lake County line to the US-6 interchange in Spanish Fork.

Alternative 4: Transit-Only Improvements. This alternative consists of transit improvements paralleling I-15, including examining commuter rail, light rail, bus rapid transit, and managed lanes.

Alternative 5: Multimodal Improvements: This alternative consists of Alternative 3 (with possible modifications) plus transit improvements, including examining commuter rail, light rail, bus rapid transit, and managed lanes. This alternative could become multiple alternatives depending on alignment and mode.

IV. Probable Effects

Environmental issues to be examined in the Alternatives Analysis and in the EIS include: potential changes to the physical environment (natural resources, air quality, noise, water quality, geology, visual); changes in the social environment (land use, development, business and neighborhood disruptions); changes in traffic and pedestrian circulation; changes in transit service and patronage; associated changes in traffic congestion; and impacts on parklands and historic sites. Impacts will be identified both for the construction period and for the long-term operation of the alternatives. The proposed evaluation criteria include transportation, social, economic, and financial measures, as required by current federal (NEPA) environmental laws and current Council on Environmental Quality; FHWA and FTA guidelines.

To ensure that the full range of issues related to this proposed action will be addressed and all significant issues identified, comments and suggestions are invited from all interested parties. Comments or questions concerning this proposed action and the EIS should be directed to UDOT as noted above.

V. FHWA Procedures

The EIS for the I-15 Corridor Utah and Salt Lake counties will be prepared simultaneously with conceptual engineering. The EIS/conceptual engineering process will address the potential use of federal funds for the proposed action, as well as assess the social, economic and environmental impacts of the alternatives.

After publication the Draft EIS will be available for public and agency review and comment, and public hearings will be held. Based on the Draft EIS comments received, UDOT will select a locally preferred alternative for further assessment in the Final EIS.

(Catalog of Federal and Domestic Assistance Program Number 20.205, Highway Research, Planning and Construction. The regulations implementing Executive Order 12372 regarding intergovernmental consultation on federal programs and activities apply to this program)
Issued on: August 27, 2004.
Jeffrey Berna,
Environmental Specialist, Salt Lake City, Utah

[FR Doc. 04-20018 Filed 9-1-04; 8:45 am]

BILLING CODE 4910-22-M